FEDERAL COMMUNICATIONS COMMISSION

Notice of Public Information Collection(s) Being Reviewed by the Federal Communications Commission, Comments Requested

March 31, 2011.

SUMMARY: The Federal Communications Commission, as part of its continuing effort to reduce paperwork burden invites the general public and other Federal agencies to take this opportunity to comment on the following information collection(s), as required by the Paperwork Reduction Act (PRA) of 1995, 44 U.S.C. 3501—3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid OMB control number. No person shall be subject to any penalty for failing to comply with a collection of information subject to the Paperwork Reduction Act (PRA) that does not display a currently valid OMB control number.

DATES: Written Paperwork Reduction Act (PRA) comments should be submitted on or before July 1, 2011. If you anticipate that you will be submitting PRA comments, but find it difficult to do so within the period of time allowed by this notice, you should advise the FCC contact listed below as soon as possible.

ADDRESSES: Direct all PRA comments to the Federal Communications Commission via e-mail to PRA@fcc.gov.

FOR FURTHER INFORMATION CONTACT: Judith B. Herman, Office of Managing Director, (202) 418-0214. For additional information, contact Judith B. Herman, OMD, 202-418-0214 or e-mail judith-b.herman@fcc.gov.

SUPPLEMENTARY INFORMATION:

OMB Control Number: 3060-0508.

Title: Part 1 and Part 22 Reporting and Recordkeeping Requirements.

Form No.: N/A.

Type of Review: Revision of a currently approved collection.

Respondents: Individuals or households and state, local or tribal government.

Number of Respondents and Responses: 16,013 respondents; 16,013 responses.

Estimated Time per Response: .25 hours-10 hours

Frequency of Response: On occasion, quarterly, and semi-annual reporting requirement and recordkeeping requirement.

Obligation To Respond: Required to obtain or retain benefits. Statutory authority for this information collection is contained in 47 U.S.C. sections 151(i), 154(j), 303, 308, 309 and 310.

Total Annual Burden: 5,974 hours.

Total Annual Cost: $518,800.

Privacy Act Impact Assessment: Yes. The Commission has a System of Records, FCC/WTB-1, “Wireless Services Licensing Record,” which covers the personally-identifiable information (PII) that individual applicants may include in their submissions for licenses or grants of equipment authorization.

Nature and Extent of Confidentiality: There is a need for confidentiality with respect to filers who are individuals in this collection. Pursuant to section 208(b) of the E-Government Act of 2002, 44 U.S.C. 3501, in conformance with the Privacy Act of 1974, 5 U.S.C. 552(a), the Commission's Wireless Telecommunications Bureau (Bureau) instructs licensees to use the FCC's Universal Licensing System (ULS), Antenna Structure Registration (ASR), Commission Registration System (CORES), and related systems and subsystems to submit information. CORES is used to obtain a FCC Registration Number (FRN) and password, after which one must register all current call sign and ASR numbers associated with a FRN within the Bureau's system of records (ULS database). Although ULS stores all information pertaining to the individual licensee via the FRN, confidential information is accessible only by persons or entities that hold the password for each account and the Bureau's licensing staff. Upon the request for a FRN, the individual licensee is consenting to make publicly available, via the ULS database, all information that is not confidential in nature.

Needs and Uses: The Commission is requesting OMB approval for a revision of this information collection (IC). The Commission has significantly reduced the burden in this information collection because we have streamlined and eliminated outdated rule sections; eliminated rule requirements that are covered under other OMB control numbers, and eliminated rule sections that were part of this collection but are not information collections, but instead are policies the Commission published in the public interest. Finally, any duplicate information collections were also removed from this IC.

The information collected pursuant to rules in Part 22 of the Commission's rules is primarily used by Commission staff to determine, on a case-by-case basis, whether or not to grant licenses authorizing construction and operation of wireless telecommunications facilities to qualified applicants and licensees, who supply this information when apply for such licenses.

Additionally, the information is sometimes used by Commission staff to develop statistics about the demand for various wireless telecommunications licenses and about the performance of the licensing process itself, and on occasion for rule enforcement purposes.

Federal Communications Commission.
Gloria Miles,
Federal Register Liaison, Office of the Secretary, Office of Managing Director.

[FR Doc. 2011-10474 Filed 4-29-11; 8:45 am]

BILLING CODE 6712-01-P